DEPARTMENT OF ENERGY

Environmental Management Site-Specific Advisory Board Chairs

AGENCY: Department of Energy.

ACTION: Notice of open teleconference.

SUMMARY: This notice announces a teleconference of the Environmental Management Site-Specific Advisory Board (EM SSAB) Chairs. The Federal Advisory Committee Act (Pub. L. 92-463, 86 Stat. 770) requires that public notice of this teleconference be announced in the Federal Register.

DATES: Thursday, October 20, 2011; 11 a.m.-3 p.m.

FOR FURTHER INFORMATION CONTACT: Catherine Alexander, Designated Federal Officer, U.S. Department of Energy, 1000 Independence Avenue, SW., Washington, DC 20585; Phone: (202) 586-7711.

SUPPLEMENTARY INFORMATION: Purpose of the Board: The purpose of the Board is to make recommendations to DOE-EM and site management in the areas of environmental restoration, waste management, and related activities.

Tentative Agenda Topics

○ EM Program Update.

○ EM SSAB Chairs' Round Robin: Top Three Site-Specific Topics and Achievements.

○ 2012-2013 Budget Update and American Recovery and Reinvestment Act Close-Out.

○ Waste Disposition Update.

○ Update on DOE Order 435.1: Radioactive Waste Management.

○ EM SSAB Chairs' Roundtable Discussion: Product Development.

Public Participation: The teleconference is open to the public. Members of the public who would like to join the proceedings by telephone should contact Elizabeth Schmitt, Public Participation Coordinator, at least 72 hours prior to the meeting to register and obtain call-in information. Ms. Schmitt can be reached via e-mail at elizabeth.schmitt@em.doe.gov, or phone at (202) 586-1135.

Written statements may be filed with the Board either before or after the meeting. Individuals who wish to make oral statements pertaining to the agenda during the teleconference should contact Catherine Alexander at the address or telephone number listed above. Requests must be received five days prior to the teleconference. The Designated Federal Officer is empowered to conduct the meeting in a fashion that will facilitate the orderly conduct of business. Individuals wishing to make public comments will be provided a maximum of five minutes, or as the agenda allows, to present comments.

Minutes: Minutes will be available by writing or calling Catherine Alexander at the address or phone number listed above. Minutes will also be available at the following Web site: http://www.em.doe.gov/stakepages/ssabchairs.aspx.

Issued at Washington, DC, on September 30, 2011.
LaTanya R. Butler,
Acting Deputy Committee Management Officer.

[FR Doc. 2011-25889 Filed 10-5-11; 8:45 am]

BILLING CODE 6450-01-P